DEPARTMENT OF COMMERCE

National Oceanic and Atmospheric Administration

15 CFR Part 902 and 50 CFR Part 660

[Docket No. 031125294-5018-03; I.D. 102903C]

RIN 0648-AP42

Fisheries Off West Coast States and in the Western Pacific; Highly Migratory Species Fisheries; Data Collection Requirements for U.S. Commercial and Recreational Charter Fishing Vessels

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements pertaining to permits, logbooks, vessel monitoring systems (VMS), and pre-trip notifications contained in the final rule to implement the approved portions of the U.S. West Coast Highly Migratory Species Fishery Management Plan (HMS FMP). The HMS FMP was partially approved on February 4, 2004, and the final rule to implement the approved portions of the HMS FMP was published in the Federal Register on April 7, 2004. At that time, the HMS FMP final rule contained collection-of-information requirements subject to the Paperwork Reduction Act (PRA) that were undergoing OMB review. This action announces receipt of OMB approval of data collections in the HMS FMP final rule for HMS permits, recordkeeping and reporting (daily logbooks), VMS, and pre-trip notification requirements for West Coast based U.S. fishing vessels targeting HMS. The intent of this notice is to inform the public of the effective date of the requirements approved by OMB.

DATES: This rule is effective February 10, 2005. Title 50 § 660.707 permits, § 660.708 reporting and recordkeeping, § 660.712(d) VMS, and § 660.712(f) pre-trip notification of the final rule for the U.S. West Coast Highly Migratory Species Fishery Management Plan published on April 7, 2004 (69 FR 18444), are effective on April 11, 2005.

ADDRESSES: Copies of the HMS FMP may be obtained from Donald O. McIsaac, Executive Director, Pacific Fishery Management Council, 7700 NE Ambassador Place, Suite 200, Portland, OR 97220-1384. Copies of the HMS FMP final rule, the Final Environmental Impact Statement (FEIS), the Final Regulatory Impact Review (RIR), and the Final Regulatory Flexibility Analysis (FRFA) are available from NMFS, Southwest Regional Office, 501 West Ocean Boulevard, Suite 4200, Long Beach, CA 90802. Copies of the Small Entity Compliance Guide for the HMS FMP final rule are available on the Southwest Region, NMFS website http://swr.nmfs.noaa.gov. Written comments regarding the burden-hour estimates or other aspects of the collection-of-information requirements contained in this final rule should be submitted to Rodney A. McInnis, Regional Administrator, NMFS, Southwest Regional Office at the above address. These comments may also be submitted by e-mail to David_Rostker@omb.eop.gov, or to the Federal e-rulemaking portal http://www.regulations.gov, or faxed to 202-395-7285.

FOR FURTHER INFORMATION CONTACT: Craig Heberer, Sustainable Fisheries Division, Southwest Region, NMFS, 562-980-4034 or 760-431-9440, ext. 303.

SUPPLEMENTARY INFORMATION: On April 7, 2004 (69 FR 18444), NMFS published a final rule that implemented the approved portion of the HMS FMP establishing, among other measures, data collection and reporting requirements for U.S. West Coast commercial and recreational charter fishing vessels targeting HMS. The HMS FMP final rule contained collection-of-information requirements that could not be enforced prior to approval by the OMB under the PRA. Delayed enforcement of these sections were announced in the April 7, 2004, HMS FMP final rule pending OMB approval of the proposed collections-of-information. In the HMS FMP final rule, NMFS requested comments on the reporting burden estimate or any other aspect of the collection-of-information requirements. No comments were received on the collection-of-information requirements. OMB has approved the collections-of-information requirements codified at 50 CFR 660.707 for permits; § 660.708 for recordkeeping and reporting; § 660.712(d) for a vessel monitoring system, and § 660.712(f) for pre-trip notification. These sections are effective April 11, 2005 and will be enforced beginning on that date. Section 660.707 requires a HMS permit with an endorsement for a specific gear for all commercial and recreational charter fishing vessels fishing for HMS. Section 660.708 requires all HMS permit holders to maintain and submit to NMFS a daily logbook of catch and effort in the HMS fisheries. Section 660.712(d) requires the holder of a HMS permit registered for use of longline gear to carry a vessel monitoring system (VMS) onboard the vessel after the date scheduled for installation by the NMFS. Section 660.712(f) requires that an operator of a vessel registered for use of longline gear must notify NMFS at least 24 hours prior to embarking on a fishing trip regardless of the intended area of fishing. The OMB has not yet cleared the vessel identification requirements detailed in 50 CFR 660.704, and those requirements will be dealt with in a future Federal Register document. Pursuant to the PRA, part 902 of title 15 CFR displays control numbers assigned to NMFS information collection requirements by OMB. This part fulfills the requirements of section 3506(c)(1)(B)(i) of the PRA, which requires that agencies display a current control number, assigned by the Director of OMB, for each agency information collection requirement. This final rule codifies OMB control numbers for 0648-0204 for § 660.707 and 0648-0498 for §§ 660.708, 660.712(d), and 660.712(f).

Classification

The Regional Administrator, NMFS, Southwest Region determined that the data collection requirements implemented by this final rule are necessary for the conservation and management of the U.S. West Coast HMS fisheries and are consistent with the Magnuson-Stevens Fishery Conservation and Management Act and other applicable law.

The data collection requirements implemented by this final rule have been determined to be not significant for purposes of Executive Order 12866.

NMFS, pursuant to section 604 of the Regulatory Flexibility Act (RFA), prepared a FRFA in support of the HMS FMP final rule published April 7, 2004. The FRFA described the economic impact that this final rule, along with other non-preferred alternatives, will have on small entities, including HMS commercial and recreational charter fishing vessels affected by this action. The contents of the FRFA and the incorporated documents (the IRFA, the RIR, and the FEIS) are not repeated here. A copy of these documents is available upon request (see ADDRESSES).

Under this HMS FMP final rule there will be no Federal fee borne by the fishing industry for the required HMS permit. Industry costs arise from the time required to recover the necessary information and complete the permit forms. The permit requirement under this final rule will establish an initial one-time reporting burden of 562.9 hours for the 1,337 participating vessels (an average of 0.42 hours/per vessel). Permits are valid for 2 years, so the additional annualized burden is 281.5 hours for initial permit issuance.

This final rule requires all surface hook and line fishing vessels targeting HMS to maintain and submit logbooks for fishing in the U.S. EEZ and on the adjacent high seas areas covered under the HSFCA if they do not already submit logbooks under another regulation. This final rule establishes an annual reporting burden of 2,661 hours for the 887 participating vessels (887 vessels x 3 trips per year x 1 hour per trip to report).

For VMS, the reporting burden for the longline fleet is estimated to be 324.6 hours based on 20 longline vessels making 6 trips each year, with an average of 15 days at sea for each trip (24 reports/day x 24 sec/report).

This final rule contains new collection-of-information requirements approved by OMB under the PRA. Public reporting burden for these collections of information are estimated to average as follows:

1. Twenty to thirty five minutes for a permit application depending on the extent of correction of information on application forms and of new information to be submitted on those forms,

2. Five minutes for filling out the HMS log each day,

3. Five minutes for a pre-trip notification by longline vessel operators,

4. Four hours for installation of a VMS on longline vessels,

5. Two hours for maintenance of the VMS system,

6. Twenty four seconds for each electronic report submitted via the satellite based VMS.

These estimates include the time for reviewing instructions, searching existing data sources, gathering and maintaining the data needed, and completing and reviewing the collection information. Public comment is sought regarding: whether this collection of information is necessary for the proper performance of the functions of the agency, including whether the information shall have practical utility; the accuracy of the burden estimate; ways to enhance the quality, utility, and clarity of the information to be collected; and ways to minimize the burden of the collection of information, including through the use of automated collection techniques or other forms of information technology. Send comments or any other aspects of the collections of information to NMFS (see ADDRESSES).

Notwithstanding any other provisions of the law, no person is required to respond to, and no person shall be subject to penalty for failure to comply with, a collection of information subject to the requirements of the PRA, unless that collection of information displays a currently valid OMB control number.

Small Entity Compliance Guide

Section 212 of the Small Business Regulatory Enforcement Fairness Act of 1996 states that for each rule or group of related rules for which an agency is required to prepare a FRFA, the agency shall publish one or more guides to assist small entities in complying with the rule, and shall designated such publications as “small entity compliance guides.” The agency shall explain the actions a small entity is required to take to comply with a rule or group of rules. As part of this rulemaking process, a small entity compliance guide was prepared for the HMS FMP final rule. This guide will be posted on the NMFS SWR website (http://swr.nmfs.noaa.gov) and a hard copy will be sent to all interested parties upon request (see FOR FURTHER INFORMATION CONTACT).

List of Subjects

15 CFR Part 902

Reporting and recordkeeping requirements.

50 CFR Part 660

Permits and Reporting and recordkeeping requirements.

Dated: February 4, 2005.
Rebecca Lent,
Deputy Assistant Administrator or Regulatory Programs, National Marine Fisheries Service.

For the reasons set out in the preamble, 15 CFR chapter IX, Part 902, is amended as follows:

15 CFR Chapter IX

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under 50 CFR is amended by adding in numerical order entries for § § 660.707, 660.708, and 660.712(d) and (f) as follows:

§ 902.1 OMB Control numbers assigned pursuant to the Paperwork Reduction Act.

(b)* * *

CFR part or section where the information collection requirement is located | Current OMB control number (All numbers begin with 0648-)
* * * * * |
50 CFR |
* * * * *
660.707 | -0204
660.708 | -0498
660.712(d) and (f) | -0498
* * * * * |

[FR Doc. 05-2531 Filed 2-9-05; 8:45 am]

BILLING CODE 3510-22-S